U.S. OFFICE OF PERSONNEL MANAGEMENT

Notice of Submission for Approval: Questionnaire for Non-Sensitive Positions (SF 85)

AGENCY: U.S. Office of Personnel Management.

ACTION: 30-Day notice and request for comments.

SUMMARY: The National Background Investigation Bureau (NBIB), U.S. Office of Personnel Management (OPM) is notifying the general public and other Federal agencies that OPM is seeking Office of Management and Budget (OMB) approval of a revised information collection, Questionnaire for Non-Sensitive Positions (SF 85).

DATES: Comments are encouraged and will be accepted until January 29, 2018. This process is conducted in accordance with 5 CFR 1320.10.

ADDRESSES: Interested persons are invited to submit written comments on the proposed information collection to the Office of Information and Regulatory Affairs, Office of Management and Budget, 725 17th Street NW, Washington, DC 20503, Attention: Desk Officer for the Office of Personnel Management or sent via electronic mail to oira_submission@omb.eop.gov or faxed to (202) 395-6974.

FOR FURTHER INFORMATION CONTACT: A copy of this information collection, with applicable supporting documentation, may be obtained by contacting U.S. Office of Personnel Management, NBIB, 1900 E Street NW, Washington, DC 20415, Attention: Donna McLeod or by electronic mail at FISFormsComments@opm.gov.

SUPPLEMENTARY INFORMATION: As required by the Paperwork Reduction Act of 1995, 44 U.S.C. 3507(a)(1), OPM is providing an additional 30 days for public comments. OPM previously solicited comments for this collection, with a 60-day public comment period, at 82 FR 29948 (June 30, 2017).

This notice announces that OPM has submitted to OMB a request for review and clearance of a revised information collection, OMB number 3206-0261, Questionnaire for Non-Sensitive Positions (SF 85). The public has an additional 30-day opportunity to comment.

The SF 85 is completed by applicants for, or incumbents of, Federal Government civilian positions, or positions in private entities performing work for the Federal Government under contract. For applicants, the SF 85 is to be used only after a conditional offer of employment has been made, unless OPM has granted an exception to the agency to permit questioning for certain positions earlier. e-QIP (Electronic Questionnaires for Investigations Processing) is a web-based system application that houses the SF 85. A variable in assessing burden hours is the nature of the electronic application. The electronic application includes branching questions and instructions which provide for a tailored collection from the respondent based on varying factors in the respondent's personal history. The burden on the respondent is reduced when the respondent's personal history is not relevant to particular question, since the question branches, or expands for additional details, only for those persons who have pertinent information to provide regarding that line of questioning. Accordingly, the burden on the respondent will vary depending on whether the information collection relates to the respondent's personal history.

The 60-day Federal Register Notice published on June 30, 2017 (82 FR 29948). Comments were received from the National Treasury Employees Union (NTEU), an individual at the Federal Aviation Administration (FAA), and an individual from the U.S. Postal Inspection Service (USPIS). Comments were also provided on behalf of the Security, Suitability, and Credentialing Performance Accountability Council Program Management Office (PAC PMO).

From the PAC PMO a recommendation was submitted to modify the explanation provided in the `Purpose of this Form' section to explain that responses provided on the SF 85P and the SF 86 may be compared with responses to previous SF 85 questionnaires. OPM accepted this comment and will update instructions to inform individuals completing the form that responses provided may be compared with responses provided on previous investigative questionnaires.

An individual from USPIS commented that Section 6, Your Identifying Information should include marital status/history, and the Sex/Gender question should be expanded to include transgender options. OPM did not accept these comments. Marital/Relationship section will remain in a separate section. Completion of the gender information on the questionnaire is based on the gender the applicant identifies with at the time when completing the application, which includes transgender individuals.

An individual from FAA commented to include in Section 9, Citizenship, a field to request the CIS number (A#) in the Naturalization Certificate. OPM did not accept this comment as a field currently exists to provide the CIS number.

An individual from FAA suggested to clarify instructions in Section 11, Where You Have Lived, to require the applicant to enter a full address (House #, Street name, and identifier (Lane, Avenue, etc.)). OPM did not accept this comment as the current instructions already request this information.

An individual from USPIS commented that in Section 12, Where You Went to School, degree and diploma information should remain as part of the collection to comply with the Federal Investigative Standards (FIS). No changes were needed in response to this comment because the recommended change was included in the 60 day Federal Register Notice of proposed changes to the SF 85.

An individual from USPIS commented that separating Section 13b, Employment Activities—Former Federal Service, from the collection of other employment information could produce a duplication of information. OPM accepted this comment, will remove Section 13b, and will require reporting of former federal service employment in Section 13a, Employment Activities.

An individual from USPIS recommends removing Section 16, “People Who Know You Well”, because the information is not required for the background investigation at this level. OPM accepted this comment and will remove Section 16.

NTEU commented that they do not object to the addition of Section 17, Police Record, but believes that OPM requests information in this proposed section without sufficient justification. Individuals would be required to report convictions that were expunged under federal or state law or otherwise stricken from court records. It would also, in direct contrast to the current OF-306, require individuals to report charges that were dismissed. The information that the section would require, moreover, includes information about charges and proceedings (regardless of the outcome) that occurred when an individual was a minor, even if the record in the matter is under seal. OPM did not accept this comment because the questions are designed to elicit information regarding criminal history record information, to permit the individual to explain the circumstances of offenses or charges, and to obtain details to assist in locating and obtaining records for the background investigation. Collecting criminal record information from the individual provides efficiency and affords the individual the opportunity to provide contextual details about conduct. Such details are needed by agencies in applying suitability criteria and/or assessing whether granting a PIV will present an unacceptable risk to people, property, and/or information systems.

An individual from USPIS commented that in the section regarding Police Record, an applicant should be asked whether they have ever been arrested or used drugs, or that information should be collected specifically regarding the past 5 or 10 years. OPM did not accept this comment because information relating to drug related arrests is already collected in the Police Record section and information regarding drug use for a specific period is collected in Section 17, Illegal Use of Drugs and Drug Activity.

A recommendation was received from the PAC PMO to require collection of information regarding alcohol abuse based on the suitability factor identified in 5 CFR 731. OPM did not accept this change at this time, but will consider the modification as part of an additional review to occur later.

Analysis

Agency: NBIB, U.S. Office of Personnel Management.

Title: Questionnaire for Non-Sensitive Positions (SF 85).

OMB Number: 3206-0261.

Affected Public: The SF 85 is an information collections completed by applicants for, or incumbents of, Federal Government civilian positions, or positions in private entities performing work for the Federal Government under contract. The SF 85 will be used by the Federal Government in conducting background investigations and reinvestigations of persons under consideration for, or retention of, non-sensitive positions. The form may also be used by agencies in determining whether a subject performing work for, or on behalf of, the Government under a contract, should be deemed eligible for logical or physical access. For applicants, the SF 85 is to be used only after a conditional offer of employment has been made, unless OPM has granted an exception.

Number of Respondents: 55,040.

Estimated Time per Respondent: 120 minutes.

Total Burden Hours: 110,080.

U.S. Office of Personnel Management.
Kathleen M. McGettigan,
Acting Director.

[FR Doc. 2017-28203 Filed 12-28-17; 8:45 am]

BILLING CODE 6326-53-P